DEPARTMENT OF ENERGY

[Docket Nos. FE C&E 01-44, C&E 01-45, C&E 01-46 and C&E 01-47 and Certification Notice-196]

Office of Fossil Energy; Notice of Filings of Coal Capability of Wise County Power Company, LLC, Panda Gila River, LP, CPV Atlantic, Ltd, Partnership and Baytown Energy Center, LP Parntership Powerplant and Industrial Fuel Use Act

AGENCY: Office of Fossil Energy, Department of Energy.

ACTION: Notice of filing.

SUMMARY: Wise County Power Company, LLC, Panda Gila River, LP, CPV Atlantic, Ltd, Partnership, and Baytown Energy Center, LP, Partnership submitted coal capability self-certifications pursuant to section 201 of the Powerplant and Industrial Fuel Use Act of 1978, as amended.

ADDRESSES: Copies of self-certification filings are available for public inspection, upon request, in the Office of Coal & Power Im/Ex, Fossil Energy, Room 4G-039, FE-27, Forrestal Building, 1000 Independence Avenue, SW., Washington, DC 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load powerplant, that such powerplant has the capability to use coal or another alternate fuel. Such certification establishes compliance with section 201(a) as of the date filed with the Department of Energy. The Secretary is required to publish a notice in the Federal Register that a certification has been filed. The following owners/operators of the proposed new baseload powerplants have filed a self-certification in acccordance with section 201(d).

Owner: Wise County Power Company, LLC (C&E 01-44).

Operator: Wise County Power Company, LLC.

Location: Wise County, Texas.

Plant Configuration: Combined-cycle.

Capacity: 700 MW.

Fuel: Natural gas.

Purchasing Entities: Electric Reliability Council of Texas (ERCOT).

In-service Date: January 1, 2003.

Owner: Panda Gila River, L.P.(C&E 01-45).

Operator: Panda Gila River, L.P.

Location: Gila Bend, Arizona.

Plant Configuration: Combined-cycle.

Capacity: 2300 MW.

Fuel: Natural gas.

Purchasing Entities: To be determined.

In-service Date: March 2003.

Owner: CPV Atlantic, Ltd (C&E 01-46).

Operator: CPV Atlantic, Ltd.

Location: St. Lucie County, Florida.

Plant Configuration: Combined-cycle.

Capacity: 250 MW.

Fuel: Natural gas.

Purchasing Entities: Sold into Florida's wholesale power market.

In-service Date: 4th quarter of 2003 or the 1st quarter of 2004.

Owner: Baytown Energy Center, LP (C&E 01-47).

Operator: Calpine Central, L.P.

Location: Chambers County, Texas.

Plant Configuration: Combined-cycle.

Capacity: 722 MW.

Fuel: Natural gas.

Purchasing Entities: 290 MW-340 MW to Bayer; excess sold into the ERCOT wholesale market.

In-service Date: January 2004.

Issued in Washington, D.C., February 13, 2001.
Anthony J. Como,
Deputy Director, Electric Power Regulation, Office of Coal & Power Im/Ex, Office of Coal & Power Systems, Office of Fossil Energy.

[FR Doc. 01-4237 Filed 2-20-01; 8:45 am]

BILLING CODE 6450-01-P